ENVIRONMENTAL PROTECTION AGENCY

40 CFR Part 370

[EPA-HQ-SFUND-2010-0763; FRL 9945-07-OLEM]

RIN 2050-AG85

Hazardous Chemical Reporting: Community Right-to-Know; Revisions to Hazard Categories and Minor Corrections

AGENCY: Environmental Protection Agency (EPA).

ACTION: Final rule; technical amendment.

SUMMARY: The Environmental Protection Agency (EPA or the Agency) is amending its hazardous chemical reporting regulations due to the changes in the Occupational Safety and Health Administration (OSHA) Hazard Communication Standard (HCS). OSHA's HCS was recently revised to conform to the United Nations Globally Harmonized System of Classification and Labeling of Chemicals (GHS). Under the revised HCS, chemical manufacturers and importers are required to evaluate their chemicals according to the new criteria adopted from GHS to ensure that they are classified and labeled appropriately. Manufacturers and importers are also required to develop standardized Safety Data Sheets (formerly known as “Material Safety Data Sheets”) and distribute them to downstream users of their chemicals. These changes in HCS affect the reporting requirements under sections 311 and 312 of the Emergency Planning and Community Right-to-Know Act (EPCRA). Based on the new classification criteria that OSHA adopted, EPA is revising the existing hazard categories for hazardous chemical inventory form reporting under EPCRA Section 312 and for list reporting under section 311. In this action, EPA is also making a few minor corrections in the hazardous chemical reporting regulations.

DATES: Effective Date: This final rule is effective June 13, 2016.

Compliance Date: The compliance date is January 1, 2018.

ADDRESSES: EPA has established a docket for this action under Docket ID No. EPA-HQ-SFUND-2010-0763. All documents in the docket are listed on the http://www.regulations.gov Web site. Although listed in the index, some information is not publicly available, e.g., Confidential Business Information (CBI) or other information whose disclosure is restricted by statute. Certain other material, such as copyrighted material, is not placed on the Internet and will be publicly available only in hard copy form. Publicly available docket materials are available either electronically through http://www.regulations.gov or in hard copy at the Superfund Docket, EPA/DC, EPA West, Room 3334, 1301 Constitution Ave. NW., Washington, DC. The Public Reading Room is open from 8:30 a.m. to 4:30 p.m., Monday through Friday, excluding legal holidays. The telephone number for the Public Reading Room is (202) 566-1744, and the telephone number for the Superfund Docket is (202) 566-0270.

FOR FURTHER INFORMATION CONTACT: Sicy Jacob, Office of Emergency Management, Mail Code 5104A, Environmental Protection Agency, 1200 Pennsylvania Avenue NW, Washington DC 20004; telephone number: (202) 564-8019; email address: jacob.sicy@epa.gov. Also contact the Superfund, TRI, EPCRA, RMP and Oil Information Center at (800) 424-9346 or (703) 412-9810 (in the Washington, DC metropolitan area). The Telecommunications Device for the Deaf (TDD) number is (800) 553-7672 or (703) 412-3323 (in the Washington, DC metropolitan area.) You may wish to visit the Office of Emergency Management (OEM) Internet site at http://www.epa.gov/emergencies.

SUPPLEMENTARY INFORMATION:

I. Background

EPA is amending its hazardous chemical reporting regulations at 40 CFR part 370 to conform to the revisions of OSHA's HCS due its adoption of the GHS classification and labeling of chemicals. The Occupational and Safety and Health Administration published a final rule to revise the HCS on March 26, 2012 (77 FR 17574), codified in 29 CFR 1910.1200. Among the recent HCS modifications, the classification of chemicals adopted from GHS affect the reporting requirements under EPCRA Sections 311 and 312. OSHA's HCS adopted certain terms used in GHS provisions, such as “Safety Data Sheet (SDS)” instead of the term “Material Safety Data Sheet (MSDS).” EPCRA Sections 311 and 312 and the implementing regulations use the term “Material Safety Data Sheet (MSDS).” In this action, EPA is also revising the regulations to use both terms and their acronyms as they have the same meaning. This action is also making some minor corrections in the regulations at 40 CFR part 370. EPA anticipates that closer correlation with the OSHA HCS and GHS will provide greater clarification to the regulated community and facilitate emergency planning.

II. Revisions to Hazard Categories

Sections 311 and 312 of the Emergency Planning and Community Right-to-Know Act (EPCRA) and its implementing regulations at 40 CFR part 370 apply to the owners and operators of facilities required to prepare or have a MSDS for any hazardous chemical defined under OSHA and its implementing regulations. EPCRA Section 311(e) defines the term “hazardous chemical” to be the same meaning as it is given in 29 CFR 1910.1200(c), except for certain substances exempted in EPCRA Section 311(e).

Section 311 of EPCRA requires facilities to submit MSDSs of hazardous chemicals or a list of hazardous chemicals grouped into categories of physical and health hazards as defined in OSHA's HCS to the State Emergency Response Commission (SERC), Local Emergency Planning Committee (LEPC) and the local fire department with jurisdiction over the facility. Section 312 of EPCRA requires these facilities to submit an emergency and hazardous chemical inventory form to the SERC, LEPC, and the local fire department, annually by March 1. The inventory form provides the physical or health hazard of each hazardous chemical as well as the locations and quantities present at the facility during the previous calendar year. There are two reporting tiers, Tier I and Tier II. Tier I inventory forms provide only general information on hazardous chemicals. Tier II inventory forms provide specific information on each hazardous chemical, which is used by many LEPCs for developing or modifying their local emergency response plans. Currently, all states require facilities to submit the federal Tier II form or the form developed by the states, including electronic reporting and submission. The regulations including the information required on the Tier I and Tier II inventory forms were first promulgated in 1987 and are codified in 40 CFR part 370.

As stated earlier in this document, the statute specifies that the list reporting under section 311 and the inventory reporting under section 312 should be based on the physical and health hazards established under OSHA regulations. Sections 311 and 312 also provide that EPA may modify the physical and health hazards set forth under the Occupational Safety and Health Act and regulations promulgated under that Act. Accordingly, in 1987, EPA modified OSHA's 23 physical and health hazards into five hazard categories (three physical and two health hazard categories) for facilities to use for reporting under sections 311 and 312. These categories are defined currently in the regulations at 40 CFR 370.66. Facilities have been using these five hazard categories since 1987 to report under sections 311 and 312.

Prior to the adoption of the GHS, OSHA's HCS was performance-oriented. It established requirements for hazard determination but did not provide the specific language to convey the information or a format in which to provide to the users of the chemicals. This meant that chemical producers were able to use whatever language or format they chose to provide the necessary information. With the adoption of GHS provisions, OSHA's HCS 2012 final rule established consistent and standardized hazard communication to the users of the chemicals, to anyone exposed to the chemicals, and to emergency responders.

GHS is a standardized approach for classifying chemicals by their health, physical and environmental effects and communicating this information to downstream users by using consistent signal words, pictograms, hazard statements, etc., on labels and SDSs. GHS establishes a set of criteria and provisions that regulatory authorities, such as OSHA, can incorporate into their existing regulations or standards, or use to develop a new system. Regulatory authorities are not required to adopt all of the criteria that are defined in GHS, only those that are appropriate to their specific regulations. Accordingly, OSHA adopted the classification criteria and provisions that are appropriate to its existing standards for hazard communication for labeling and SDSs. The revised HCS provisions also include developing SDSs using the standardized 16-section format with consistent headings adopted from GHS.

The definitions of hazards in GHS are more specific, detailed criteria than they were in OSHA's HCS prior to the 2012 revisions. Under the GHS, each hazard is considered to be a hazard class and the classes are then generally sub-divided into categories of hazard. For example, under the original HCS, a chemical is either a potential carcinogen or it is not. Under the revised HCS, this is further divided according to the degree of severity of the hazard. That is, carcinogenicity has two hazard categories. Category 1 includes known or presumed human carcinogens, while Category 2 includes suspected human carcinogens. Category 1 is also sub-divided into Category 1A and 1B. Such detailed criteria provides more accurate hazard determinations and more consistency among various suppliers of the same chemical. EPA believes that such detailed criteria will be valuable to emergency planners and responders.

OSHA also revised the definition of the term “hazardous chemical.” Prior to March 26, 2012, OSHA's HCS defined the term “hazardous chemical” as any chemical which is a physical or health hazard. OSHA has revised the definition of the term “hazardous chemical” to add the term “classified” and to list specifically certain hazards already covered by HCS but not addressed in GHS at the time of the March 2012 final rule. The revised definition of “hazardous chemical” is any chemical which is classified as a physical or health hazard, a simple asphyxiant, combustible dust, pyrophoric gas, or hazard not otherwise classified. OSHA added the three hazards, simple asphyxiant, combustible dust and pyrophoric gas, to the definition of “hazardous chemical” to ensure that the regulated community would understand that these are still covered under the revised HCS. The definition of hazardous chemical also includes the term “hazard not otherwise classified” (HNOC) for those chemicals that do not fit into any of the hazard classes adopted from GHS.

Although the physical and health hazards in OSHA's HCS prior to the 2012 revisions are the same as the revised hazards, the descriptions are slightly different. See the following table for descriptions of physical hazard class before and after adopting GHS provisions.

Physical hazards (prior to GHS adoption) | Physical hazards (after adoption, revised in 2012)
Combustible liquid | Flammable (gases, aerosols, liquids, or solids).
Compressed Gas | Gas under pressure.
Explosive | Explosive.
Flammable | Self-heating.
Pyrophoric | Pyrophoric (liquid or solid).
Oxidizer | Oxidizer (liquid, solid or gas).
Organic Peroxide | Organic peroxide.
Unstable (Reactive) | Self-reactive.
Water-Reactive | In contact with water emits flammable gas.
| Corrosive to metal.
| Hazard Not Otherwise Classified (HNOC).

The following table lists OSHA HCS health hazard class prior to and after adoption of GHS provisions.

Health hazards (prior to GHS adoption) | Health hazards (after adoption, revised in 2012)
Carcinogens | Carcinogenicity.
Toxic or highly toxic agents | Acute toxicity (any route of exposure).
Reproductive toxins | Reproductive toxicity.
Irritants; Corrosives | Skin Corrosion or Irritation.
Sensitizers | Respiratory or Skin Sensitization.
Agents which damage the lungs, skin, eyes, or mucous membranes | Serious eye damage or eye irritation.
Hepatotoxins | Specific target organ toxicity (single or repeated exposure).
Nephrotoxins | Germ cell mutagenicity.
Neurotoxins | Aspiration Hazard.
Agents which act on the hematopoietic system | Hazard Not Otherwise Classified (HNOC).

In addition to the hazards listed in the previous tables, OSHA specifically added the following hazards in the March 2012 final rule, simple asphyxiant, combustible dust, pyrophoric gas, and hazard not otherwise classified, to the definition of hazardous chemical as mentioned earlier in this document.

Hazardous chemical reporting under EPCRA Sections 311 and 312 requires facilities to report the physical and health hazards of chemicals as established under OSHA and its regulations. EPCRA provides that EPA may modify the OSHA categories as necessary.

Currently, the definition of the term “hazard category” in the regulations at 40 CFR 370.66 is the consolidation of OSHA's 23 original hazard categories into five hazard categories. The following table lists the physical and health hazard categories (consolidated from OSHA's original 23 hazard categories) that facilities have been using since 1987 to comply with EPCRA Sections 311 and 312.

Physical Hazard
Fire (Flammable, Combustible liquid, Pyrophoric, Oxidizer).
Sudden Release of Pressure (Explosive, Compressed Gas).
Reactive (Unstable Reactive, Organic Peroxide, Water Reactive).
Health Hazard (Immediate-Acute)
Highly Toxic; Toxic; Irritant; Sensitizer; Corrosives & other hazardous chemicals that cause an adverse effect to a target organ and which effect usually occurs rapidly as a result of a short term exposure and is of short duration.
Health Hazard (Delayed-Chronic)
Carcinogens & other hazardous chemicals that cause an adverse effect to a target organ and which effect generally occurs as a result of long term exposure and is of long duration.

Soon after OSHA's HCS 2012 final rule was published, many stakeholders requested EPA adopt physical and health hazard classes as they are described in the revised HCS. The stakeholders expressed that, if the EPA adopted these physical and hazard classes, it would be less burdensome to the regulated community as they would only need to copy the chemical hazard information from the MSDS (or SDS) and implementing agencies could more easily compare the hazard information provided on each MSDS (or SDS) with the information provided on the list of hazardous chemicals and the inventory form.

Therefore, EPA has decided to replace the existing five hazard categories (Fire, Sudden Release of Pressure, Reactive, Immediate (Acute) health hazard, Delayed (Chronic) health hazard) in 40 CFR part 370 with each specific hazard class listed in the revised OSHA HCS as well as the four hazards that GHS did not address (simple asphyxiant, combustible dust, pyrophoric gas, and hazard not otherwise classified). The following table lists the physical and health hazards that EPA is adopting from the revised HCS.

Physical hazards | Health hazards
Flammable (gases, aerosols, liquids, or solids) | Carcinogenicity.
Gas under pressure | Acute toxicity (any route of exposure).
Explosive | Reproductive toxicity.
Self-heating | Skin Corrosion or Irritation.
Pyrophoric (liquid or solid) | Respiratory or Skin Sensitization.
Oxidizer (liquid, solid or gas) | Serious eye damage or eye irritation.
Organic peroxide | Specific target organ toxicity (single or repeated exposure).
Self-reactive | Aspiration Hazard.
Pyrophoric gas | Germ cell mutagenicity.
Corrosive to metal | Simple Asphyxiant.
In contact with water emits flammable gas | Hazard Not Otherwise Classified (HNOC).
Combustible Dust
Hazard Not Otherwise Classified (HNOC)

The four hazards that are specifically listed in the definition of “hazardous chemical” in the revised HCS are listed in the table as either a physical or health hazard. The hazard, HNOC (hazard not otherwise classified), would be both a physical and health hazard, as listed in the previous table.

Sections 311 and 312 use the term “hazard category,” so EPA will continue to use the term “hazard category” in the definition section in 40 CFR 370.66 but will replace the five hazard categories with those hazards listed in the previous table. This technical amendment would also delete any reference to the consolidated five hazard categories in the regulations, specifically in sections 370.41 and 370.42(s)(5).

The hazard categories on both inventory forms (Tier I and Tier II) and the instructions to these forms would be replaced with the list of physical and health hazards as identified in the previous table. As mentioned earlier, the revised HCS requires chemical producers to provide detailed criteria of each hazard on the MSDS (or SDS) as adopted from GHS. So, in addition to the hazards listed in the previous table, facilities complying with sections 311 and 312 may report the detailed criteria for each hazard as provided on the SDS, which would be beneficial for emergency planners and responders.

EPA will be modifying Tier2 Submit, the software developed for reporting under section 312, to include the new physical and health hazards as well as the four specifically listed hazards that EPA adopted from OSHA's revised HCS. For states that have their own reporting software for section 312, EPA is providing flexibility to allow states to modify their software by January 1, 2018. Facilities are required to comply with reporting the new physical and health hazards on their Tier II inventory form for reporting year 2017, by March 1, 2018. In the meantime, EPA encourages facilities to provide the most accurate information available on potential hazards of each chemical at their facility to the SERC, LEPC, and the local fire department with jurisdiction over the facility.

Some states may already have amended their regulations to include the new hazards, consistent with the revised HCS, which EPA is finalizing in this action. Facilities should contact their state for any additional reporting and submission requirements.

III. Other Revisions to 40 CFR Part 370

As mentioned previously, the OSHA HCS adopted some terms used in the GHS provisions, such as, “Safety Data Sheet (SDS)” instead of the term, “Material Safety Data Sheet (MSDS).” Although EPCRA Sections 311 and 312 refer to the term, “Material Safety Data Sheet”, the implementing regulations would be revised to use both terms in 40 CFR part 370. The term “Safety Data Sheet (SDS)” is now more commonly used by all stakeholders.

In this action, EPA is correcting a typographical error in 40 CFR 370.30(a) and revising EPA's Web site address in 40 CFR 370.40(a), 370.64(a), and 370.64(b).

In this action, EPA is also revising the definition section, 40 CFR 370.66, by replacing the list of “hazard category” by the specific physical and health hazards listed in the revised HCS. The term “Safety Data Sheet (SDS)” will be added to the definition section in alphabetical order.

IV. Authority Under the Administrative Procedure Act

Section 553 of the Administrative Procedure Act (APA), 5 U.S.C. 553(b)(3)(B), provides that, “when an Agency for good cause finds . . . that notice and public procedure thereon are impracticable, unnecessary or contrary to the public interest,” the Agency may issue a final rule without providing notice and an opportunity for public comment. EPA has determined that there is good cause for making this technical amendment final without prior proposal and opportunity for comment, because this final rule simply adopts the hazard classes established in OSHA's revised HCS as directed by EPCRA Sections 311 and 312. The burden for facilities associated with re-classifying their chemicals into the new criteria that OSHA HCS adopted from GHS is already accounted for in the OSHA HCS March 2012 final rule. Facilities required to comply with EPCRA Sections 311 and 312 would simply need to copy the hazards found on each MSDS (or SDS) of the hazardous chemical, to comply with the inventory reporting under EPCRA Section 312, and for the list of chemicals submitted under section 311. There is no additional burden incurred for facilities due to this technical amendment to 40 CFR part 370. The burden for developing an MSDS (or SDS) is already considered under the OSHA HCS. EPA finds that this constitutes good cause under 5 U.S.C. 553(b)(3)(B).

V. Do any of the statutory and Executive Order reviews apply to this action?

This final rule simply adopts the hazard categories set forth in OSHA HCS for reporting on the inventory form and the list of hazardous chemicals as directed by sections 311 and 312 of EPCRA. It does not impose any new burden on the regulated community or the implementing agencies.

Under Executive Order 12866 (58 FR 51735, October 4, 1993) and Executive Order 13563 (76 FR 3821, January 21, 2011), this action is not a “significant regulatory action” and is therefore not subject to OMB review. Because this action is not subject to notice and comment requirements under the Administrative Procedure Act or any other statute, it is not subject to the Regulatory Flexibility Act (5 U.S.C. 601 et seq.) or Sections 202 and 205 of the Unfunded Mandates Reform Act (2 U.S.C. 1531-1538). In addition, this action does not significantly or uniquely affect small governments. This action does not create new binding legal requirements that substantially and directly affect Tribes under Executive Order 13175 (65 FR 67249, November 9, 2000). This action does not have significant Federalism implications under Executive Order 13132 (64 FR 43255, August 10, 1999). Because this final rule has been exempted from review under Executive Order 12866, this final rule is not subject to Executive Order 13211, entitled Actions Concerning Regulations That Significantly Affect Energy Supply, Distribution, or Use (66 FR 28355, May 22, 2001) or Executive Order 13045, entitled Protection of Children from Environmental Health Risks and Safety Risks (62 FR 19885, April 23, 1997). This final rule does not contain any information collections subject to OMB approval under the Paperwork Reduction Act (PRA), 44 U.S.C. 3501 et seq., nor does it require any special considerations under Executive Order 12898, entitled Federal Actions to Address Environmental Justice in Minority Populations and Low-Income Populations (59 FR 7629, February 16, 1994). This action does not involve technical standards; thus, the requirements of Section 12(d) of the National Technology Transfer and Advancement Act of 1995 (15 U.S.C. 272 note) do not apply.

VI. Congressional Review Act

This action is subject to the Congressional Review Act (CRA), and EPA will submit a rule report to each House of the Congress and to the Comptroller General of the United States. The CRA allows the issuing agency to make a rule effective sooner than otherwise provided by the CRA if the agency makes a good cause finding that notice and comment rulemaking procedures are impracticable, unnecessary or contrary to the public interest (5 U.S.C. 808(2)). The EPA has made a good cause finding for this rule as discussed in section IV of this document, including the basis for that finding.

List of Subjects in 40 CFR Part 370

Environmental protection, Extremely hazardous substances, GHS, Hazard categories, Hazard class, Hazardous chemicals, OSHA HCS, Tier II Inventory Form.

Dated: May 26, 2016.
Mathy Stanislaus,
Assistant Administrator, Office of Land and Emergency Management.

For the reasons stated in the preamble, title 40, chapter I of the Code of Federal Regulations is amended as follows:

PART 370—HAZARDOUS CHEMICAL REPORTING: COMMUNITY RIGHT-TO-KNOW

1. The authority citation for part 370 continues to read as follows:

Authority: Sections 302, 311, 312, 322, 324, 325, 327, 328, and 329 of the Emergency Planning and Community Right-To-Know Act of 1986 (EPCRA) (Pub. L. 99-499, 100 Stat. 1613, 42 U.S.C. 11002, 11021, 11022, 11042, 11044, 11045, 11047, 11048, and 11049).

§§ 370.10, 370.12, 370.13, 370.14, 370.20, 370.30, 370.31, 370.32, 370.33, 370.60, 370.62, 370.63, 370.64, and 370.66 [Amended]

2. In 40 CFR part 370, after the text “MSDS”, add the words “(or SDS)” in the following places:

a. Section 370.10(b)(1), two times;

b. Section 370.12(a) and (b);

c. Section 370.13 introductory text;

d. Section 370.14(a)(1) two times; (a)(2), two times; and (b), three times;

e. Section 370.20, two times;

f. Undesignated center heading before § 370.30;

g. Section 370.30(a)(1), (a)(2) and (b) two times;

h. Section 370.31, five times;

i. Section 370.32, two times;

j. Section 370.33, four times;

k. Section 370.60, section heading and four times;

l. Section 370.62, three times;

m. Section 370. 63(b);

n. Section 370.64(a); and

o. Section 370.66 (definition of “Material Safety Data Sheet or MSDS”).

In addition to the amendments set forth above:

§ 370.1 [Amended]

3. In § 370.1, paragraph (a), after the text “(MSDS)”, add the words “or Safety Data Sheet (SDS)”.

§ 370.10 [Amended]

4. In § 370.10, paragraph (a) introductory text, after the text “(MSDS)”, add the words “(or Safety Data Sheet (SDS))”.

§ 370.14 [Amended]

5. In § 370.14, paragraphs (a)(1) and (2), after the text “MSDSs”, add the words “(or SDSs)”, four times.

§ 370.30 [Amended]

6. Amend § 370.30 by:

a. In paragraph (a), removing the text “§ 1A370.10”, and adding “§ 370.10” in its place; and

b. Revising paragraph (a)(2).

The revised text reads as follows:

§ 370.30 What information must I provide and what format must I use?

(a) * * *

(2) Submitting a list of all hazardous chemicals present at your facility at or above the applicable threshold levels. The hazardous chemicals on your list must be grouped by the specific health and physical hazards as defined in § 370.66. The list must contain the chemical or common name of each hazardous chemical as provided on the MSDS (or SDS).

* * * * *

§ 370.40 [Amended]

7. Amend § 370.40, paragraph (b), by removing the text “http://www.epa.gov/emergencies”, and adding “http://www.epa.gov/epcra” in its place.

8. Amend § 370.41 by revising the introductory text to read as follows:

§ 370.41 What is Tier I inventory information?

Tier I information provides State and local officials and the public with information on the general types and locations of hazardous chemicals present at your facility during the previous calendar year. The Tier I information is the minimum information that you must provide to be in compliance with the inventory reporting requirements of this part. If you are reporting Tier I information, you must report aggregate information on hazardous chemicals by hazard categories. The hazard categories (physical and health hazards) are defined in § 370.66. Tier I inventory form includes the following data elements:

* * * * *

9. Amend § 370.42 by revising paragraphs (s)(1), (3), and (5) to read as follows:

§ 370.42 What is Tier II inventory information?

* * * * *

(s) For each hazardous chemical that you are required to report, you must:

(1) Pure Chemical: Provide the chemical name (or the common name of the chemical) as provided on the Material Safety Data Sheet (MSDS) (or Safety Data Sheet (SDS)) and provide the Chemical Abstract Service (CAS) registry number of the chemical provided on the MSDS (or SDS).

Note to Paragraph (s)(1): If you are withholding the name in accordance with trade secret criteria, you must provide the generic class or category that is structurally descriptive of the chemical and indicate that the name is withheld because of trade secrecy. Trade secret criteria are addressed in § 370.64(a).

* * * * *

(3) Mixture. If you are reporting a mixture, enter the mixture name, product name or trade name as provided on the Material Safety Data Sheet (MSDS) (or Safety Data Sheet (SDS)) and provide the Chemical Abstract Service (CAS) registry number of the mixture provided on the MSDS (or SDS). If there is no CAS number provided or it is not known, check the box “Not Available.”

* * * * *

(5) Pure Chemical or Mixture: Indicate which hazard categories (or hazard classes) apply to the chemical or the mixture. The hazard categories (or physical and health hazards) are defined in § 370.66.

* * * * *

§ 370.64 [Amended]

10. Amend § 370.64 by removing “http://www.epa.gov/emergencies” and adding “http://www.epa.gov/epcra” in its place, two times.

11. Amend § 370.66 by revising the definition “Hazard category”, and adding in alphabetical order the definition “Safety Data Sheet or SDS” to read as follows:

§ 370.66 How are key words in this part defined?

* * * * *

Hazard category is divided into two categories, health and physical hazards.

(1) Health hazard means a chemical which poses one of the following hazardous effects: Carcinogenicity; acute toxicity (any route of exposure); aspiration hazard; reproductive toxicity; germ cell mutagenicity; skin corrosion or irritation; respiratory or skin sensitization; specific target organ toxicity (single or repeated exposure); simple asphyxiant; and hazard not otherwise classified (HNOC).

(2) Physical hazard means a chemical which poses one of the following hazardous effects: Flammable (gases, aerosols, liquids or solids); gas under pressure; explosive; self-heating; pyrophoric (liquid or solid); pyrophoric gas; oxidizer (liquid, solid or gas); organic peroxide; self-reactive; in contact with water emits flammable gas; combustible dust; corrosive to metal; and hazard not otherwise classified (HNOC).

* * * * *

Safety Data Sheet or SDS means the sheet required to be developed under 29 CFR 1910.1200(g). This term means the same as the term “material safety data sheet or MSDS” defined in this section.

* * * * *

[FR Doc. 2016-13582 Filed 6-10-16; 8:45 am]

BILLING CODE 6560-50-P